Title 3—

The President

Proclamation 8215 of January 14, 2008

Religious Freedom Day, 2008

By the President of the United States of America

A Proclamation

Thomas Jefferson counted the freedom of worship as one of America's greatest blessings. He said it was “a liberty deemed in other countries incompatible with good government, and yet proved by our experience to be its best support.” On Religious Freedom Day, we celebrate the 1786 passage of the Virginia Statute for Religious Freedom.

The freedom to worship according to one's conscience is one of our Nation's most cherished values. It is the first protection offered in the Bill of Rights: that “Congress shall make no law respecting an establishment of religion, or prohibiting the free exercise thereof.” In America, people of different faiths can live together united in peace, tolerance, and humility. We are committed to the proposition that as equal citizens of the United States of America, all are free to worship as they choose.

In an era during which an unprecedented number of nations have embraced individual freedom, we have also witnessed the stubborn endurance of religious repression. Religious freedom belongs not to any one nation, but to the world, and my Administration continues to support freedom of worship at home and abroad. On Religious Freedom Day and throughout the year, we recognize the importance of religious freedom and the vital role it plays in spreading liberty and ensuring human dignity.

NOW, THEREFORE, I, GEORGE W. BUSH, President of the United States of America, by virtue of the authority vested in me by the Constitution and laws of the United States, do hereby proclaim January 16, 2008, as Religious Freedom Day. I call on all Americans to reflect on the great blessing of religious liberty, endeavor to preserve this freedom for future generations, and commemorate this day with appropriate events and activities.

IN WITNESS WHEREOF, I have hereunto set my hand this fourteenth day of January, in the year of our Lord two thousand eight, and of the Independence of the United States of America the two hundred and thirty-second.

[FR Doc. 08-184

Filed 1-16-08; 8:45 am]

Billing code 3195-01-P